DEPARTMENT OF AGRICULTURE

Forest Service

Warren County, PA; Notice of Intent

AGENCY: Forest Service, USDA.

ACTION: Notice of intent to prepare an environmental impact statement.

SUMMARY: The Forest Service, Allegheny National Forest, Bradford Ranger District, will prepare a Draft Environmental Impact Statement to disclose the environmental consequences of the proposed West Branch of Tionesta Project. The Forest Service is proposing actions that would move the West Branch of Tionesta Project Area from the existing condition towards the Desired Future Condition (DFC) and would maintain the DFC in situations where it has been attained. The DFC is described in the Allegheny National Forest Land and Resource Management Plan (Forest Plan).

Proposed activities to meet the Desired Future Condition fall into four main categories. (1) Timber harvest and reforestation treatments consist of: shelterwood seedcut/removal cut, shelterwood removal cut, salvage removal cut, salvage shelterwood seed cut/removal cut, single tree selection, group selection, commercial thinning, intermediate thinning, pre-commercial thinning, improvement cutting, manual site preparation and release, herbicide application, fertilization, fencing, controlled burning, scarification, and tree planting. (2) Wildlife habitat improvement treatments consist of: noncommercial thinning, oak/hickory/shrub underplanting, pruning and release of apple trees, release of white pine trees, hawthorn release, constructing new openings, opening maintenance, planting/fencing shrubs in openings, mowing, topdressing, seeding with wildflowers and grass, constructing nest/roost boxes. (3) Transportation treatments consist of: road decommissioning, road maintenance, road construction, road resurfacing, expanding and developing stone pits, and changing road access. (4) Watershed treatments consist of: Stream restoration and enhancement, obliterate and restore illegal stream crossings, enclose open top bridges, apply limestone surfacing within 300 feet of streams, and restore the natural flow of the stream.

DATES: Comments and suggestions concerning the scope of the analysis should be submitted (postmarked) by March 4, 2005 to ensure timely consideration.

ADDRESSES: Submit written, oral, or e-mail comments by: (1) Mail: “West Branch of Tionesta Project,” ID Team Leader, 29 Forest Service Drive, Bradford, PA 16701; (2) phone: (814) 362-4613; (3) e-mail: comments-eastern-allegheny-bradford@fs.fed.us (please note: when commenting by e-mail be sure to list West Branch of Tionesta EIS in the subject line and include a U.S. Postal Service address so we may add you to our mailing list). For further information contact O'Dell E. Tucker, project team leader, Bradford Ranger District, at (814) 362-4613 or mail/e-mail correspondence to addresses listed above. The scoping letter and maps for the West Branch of Tionesta EIS are posted on the ANF Web site: http://www.fs.fed.us/r9/forests/allegheny.

SUPPLEMENTARY INFORMATION: The Allegheny National Forest Land and Resource Management Plan (Forest Plan) sets site-specific goals for the management of forest resources. The West Branch of Tionesta Project includes portions of Management Area (MA) 3.0, which emphasizes timber harvesting as a means to make desired changes to forest vegetation and satisfy the public demand for wood products. The project area also includes portions of MA 6.1, which emphasizes providing habitat for wildlife, attractive scenery, and opportunities for semi-primitive motorized recreation; and portions of MA 8.0, which emphasizes protection of unique ecosystems for scientific purposes and dispersed recreation. Finally, the project area contains portions of MA 9.1, which emphasizes forest area to be managed with minimal investments only to protect the environment and the incidental forest users.

Preliminary Issues were identified based on past projects in the area (environmental assessments), issues developed for similar projects, and site-specific concerns raised by the resource specialists. These issues, listed below, will provide a framework that the Forest Service will use to analyze a range of alternatives, including No Action for the Project Area.

(1) Roads—The West Branch of Tionesta project area contains heavily roaded areas due to extensive oil and gas developments in the northwestern and eastern portions of the project area. Water quality and stream flow regimes are the primary concerns of heavy road densities. Sedimentation of streams and riparian areas is also a concern from roads due to impacts to stream channel morphology and aquatic habitat. The West Branch of Tionesta Roads Analysis Project (RAP) team will continue evaluating these and other road related issues, and will present their findings in a RAP document that will be available to the public.

(2) Special Designation Waters—Wildcat Run and Arnot Run are designated “Exceptional Value Watersheds” by the Pennsylvania Department of Environmental Protection. Slater Run, while not a State special designated water, flows directly into the Allegheny River where threatened, endangered, and sensitive species are located. The special status of waterways in these watersheds will increase sensitivity towards land disturbing activities such as vegetation and road management.

(3) Biological Diversity and Wildlife Habitat—The area is dominated by fifty-one to one hundred and ten year age-classes. There is a shortage of habitat provided by younger age classes and old growth. Existing younger age classes will develop into older age classes in the next decades as they mature. Certain wildlife species require different ages of vegetation. Other wildlife species need a variety of forest types positioned near each other or perhaps near water. Management practices should reflect a balance of activities that assure biological diversity is maintained or enhanced. Concepts of biological diversity suggest that land management should encourage a variety of habitats.

(4) Proposed Special Emphasis Areas—There are proposed management activities within the project area identified by Allegheny Defense Project for special management. Proposed vegetation management activities in these areas follow current forest plan direction.

Project Area and Roads Analysis Project Public Meeting: The public meeting for the project area and the RAP for WBTPA has been scheduled for Saturday, February 19, 2005 at 10 a.m. to 2 p.m. We will meet at the Bradford Ranger District Office at the junction of State Route 321 and State Route 59 South, Marshburg, PA. (R.S.V.P by calling 814-362-4613). There will also be an opportunity for the public to ask questions and make suggestions to the ID Team.

Comment Requested: This notice of intent initiates the scoping process, which guides the development of the environmental impact statement. Your comments will help the Forest Service refine and enhance the list of issues that are considered when analyzing alternatives to the proposed action. When this analysis is nearly complete, the Draft EIS will be filed with the Environmental Protection Agency and become available for public review (expected by November 2005). At that time the Environmental Protection Agency will publish a Notice of Availability of the document in the Federal Register (this will begin the 45-day comment period on the Draft EIS). After the comment period ends on the Draft EIS, the comments will be analyzed and considered by the Forest Service in preparing the final environmental impact statement. The Final EIS and Record of Decision are scheduled for release in May 2006.

Comments received, including names and addresses of those who comment, will be considered part of the public record and may be subject to public disclosure. Any person may request the Agency to withhold a submission from the public record by showing how the Freedom of Information Act (FOIA) permits such confidentiality.

The Forest Service believes it is important to give reviewers notice at this early stage of several court rulings related to public participation in the environmental review process. First, reviewers of draft environmental impact statements must structure their participation in the environmental review of the proposal so that it is meaningful and alerts an agency to the reviewer's position and contentions (Vermont Yankee Nuclear Power Corp. v. NRDC, 435 U.S. 519 553 [1978]). Also, environmental objections that could be raised at the draft environmental impact statement stage but that are not raised until after completion of the final environmental impact statement stage may be waived or dismissed by the courts City of Angoon v. Hodel, 803 F.2nd 1016, 1022 [9th Cir. 1986] and MDSU Wisconsin Heritages, Inc. v. Harris, 490 F. Supp. 1334, 1338 [E.D. Wis. 1980]).

Because of the above rulings, it is very important that those interested in this proposed action participate by the close of the 45-day comment period so that substantive comments are made available to the Forest Service at a time when they can be meaningfully considered and responded to in the final environmental impact statement. Comments on the draft environmental impact statement should be as specific as possible. It is also helpful if comments refer to specific pages, sections, or chapters of the draft statement. Comments may also address the adequacy of the draft environmental impact statement or the merits of the alternatives formulated and discussed in the statement. Reviewers may wish to refer to Council on Environmental Quality Regulations for implementing the procedural provisions of the National Environmental Policy Act at 40 CFR 1503.3 in addressing these points.

This decision will be subject to appeal under 36 CFR 215. The responsible official is John R. Schultz, Bradford Ranger District, 29 Forest Service Drive, Bradford, PA 16701.

Dated: January 27, 2005.
Kevin B. Elliott,
Forest Supervisor.

[FR Doc. 05-2005 Filed 2-2-05; 8:45 am]

BILLING CODE 3410-11-P